DEPARTMENT OF ENERGY

Federal Energy Regulatory Commission

[Docket No. RP00-286-000]

Koch Gateway Pipeline Company; Notice of Proposed Changes to FERC Gas Tariff

May 19, 2000.

Take notice that on May 16, 2000, Koch Gateway Pipeline Company (Koch) tendered for filing as part of its FERC Gas Tariff, the following tariff sheets, to become effective June 15, 2000:

Fifth Revised Volume No. 1

Seventh Revised Sheet No. 2

Fourth Revised Sheet No. 103

Fourth Revised Sheet No. 305

First Revised Sheet No. 606

Fourth Revised Sheet No. 719

Second Revised Sheet No. 1004

Fourth Revised Sheet No. 1410

Sixth Revised Sheet No. 1414

Second Revised Sheet No. 1502

Third Revised Sheet No. 1703

Seventh Revised Sheet No. 1808

Fourth Revised Sheet No. 1900

Second Revised Sheet No. 2002

Second Revised Sheet No. 2003

First Revised Sheet No. 2010

Ninth Revised Sheet No. 2700

Fourth Revised Sheet No. 2703

Fifth Revised Sheet No. 3702

First Revised Sheet No. 3900

Fourth Revised Sheet No. 5000

Tenth Revised Sheet No. 5200

Koch states that it has revised the above tariff sheets to reflect minor housekeeping changes for clarification of Koch's FERC Gas Tariff.

Koch states that copies of this filing have been served upon Koch's customers, state commissions and other interested parties.

Any person desiring to be heard or to protest said filing should file a motion to intervene or a protest with the Federal Energy Regulatory Commission, 888 First Street, NE, Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

Linwood A. Watson, Jr.,
Acting Secretary.

[FR Doc. 00-13113 Filed 5-24-00; 8:45 am]

BILLING CODE 6717-01-M